DEPARTMENT OF TRANSPORTATION

National Highway Traffic Safety Administration

Innovative Grants To Support Increased Seat Belt Use Rates

AGENCY: National Highway Traffic Safety Administration, DOT.

ACTION: Announcement of grants to support innovative and effective projects designed to increase seat belt use rates.

SUMMARY: The National Highway Traffic Safety Administration (NHTSA) announces the third year of a grant program under Section 1403 of the Transportation Equity Act for the 21st Century (TEA-21) to provide funding to States for innovative projects to increase seat belt use rates. Consistent with last year, the goal of this program is to increase seat belt use rates across the nation in order to reduce the deaths, injuries, and societal costs that result from motor vehicle crashes. This notice solicits applications from the States, the District of Columbia and Puerto Rico, through their Governors' Representatives for Highway Safety, for funds to be made available in FY 2002. Detailed application instructions are provided in the Application Contents and Grant Criteria section of this Notice. The Section 157 Innovative grants will be awarded to States that comply with the criteria set out in the Application Contents and Grant Criteria Section of this Notice.

DATES: Applications must be received by the office designated below on or before June 29, 2001.

ADDRESSES: Applications must be submitted to the National Highway Traffic Safety Administration, Office of Traffic Injury Control Programs, Occupant Protection Division, (NTS-12), ATTN: Janice Hartwill-Miller, 400 Seventh Street, SW., Room 5118, Washington, DC 20590.

FOR FURTHER INFORMATION CONTACT: Questions relating to this grant program should be directed to Janice Hartwill-Miller, Office of Traffic Injury Control Programs, Occupant Protection Division (NTS-12), NHTSA, 400 Seventh Street, SW., Room 5118, Washington, DC 20590, by e-mail at jhartwill-miller@nhtsa.dot.gov, or by phone at (202) 366-2684. For legal issues contact Mr. John Donaldson, Office of Chief Counsel, NCC-30, NHTSA, 400 Seventh Street, SW., Room 5118, Washington, DC 20590, by phone at (202) 366-1834. Interested applicants are advised that no separate application package exists beyond the contents of this announcement.

SUPPLEMENTARY INFORMATION:

Background

The Transportation Equity Act for the 21st Century (TEA-21), Pub.L. 105-178, was signed into law on June 9, 1998. Section 1403 of TEA-21 contained a safety incentive grant program regarding seat belt usage rates in the States. Under this program, funds are allocated each fiscal year from 1999 until 2003 to States that exceed the national average seat belt use rate or that improve their State seat belt use rate, based on certain required determinations and findings. Section 1403 provided that, beginning in fiscal year 2000, any funds remaining unallocated in a fiscal year after the determinations and findings related to seat belt use rates have been made are to be used to “make allocations to States to carry out innovative projects to promote increased seat belt use rates.” Today's notice solicits applications for funds that will become available in fiscal year 2002 under this provision.

TEA-21 imposes several requirements under the innovative projects funding provision. Specifically, to be eligible to receive an allocation, a State must develop a plan for innovative projects to promote increased seat belt use rates statewide and submit the plan to the Secretary of Transportation (by delegation, to NHTSA). NHTSA was directed to establish criteria governing the selection of State plans that are to receive allocations and was further directed to “ensure, to the maximum extent practicable, demographic and geographic diversity and a diversity of seat belt use rates among the States selected for allocations.” Finally, subject to the availability of funds, TEA-21 provides that the amount of each grant under a State plan is to be not less than $100,000.

In the following sections, the agency describes the application and award procedures for receipt of funds under this provision, including requirements related to the contents of a State's plan for innovative projects and the criteria the agency will use to determine whether a State will receive an award. To assist the States in formulating plans that meet these criteria, we have provided an extensive discussion of strategies for increasing seat belt use and of the ways in which States might meet the criteria for an award.

Objective of This Grant Program

The objective of this grant program is to increase State seat belt use rates, for both adults and children, by supporting the implementation of innovative projects that build upon strategies known to be effective in increasing seat belt use rates. Because one of the best ways to ensure that children develop a habit of buckling up is for parents to properly restrain them in child safety seats, efforts to increase the use of child safety seats, in addition to seat belts, may be included among the innovative efforts in a State's plan. However, efforts to increase seat belt use rates must remain the focus of the State's plan. (For a discussion of Strategies that have proven effective in increasing seat belt use, see Appendix A.)

As in previous years, to be considered for an award of funds under this program in FY 2002, the State's innovative project plan must be based on a core component of highly visible enforcement of its seat belt use law or on a non-enforcement approach that has the potential of increasing the seat belt use rate statewide. The project plan also must have a media program designed to make the public aware of this enforcement effort and it must include a comprehensive plan to evaluate the program in terms of changes in both public awareness and observed seat belt use. In addition, the State's efforts must be statewide. If a State is already pursuing a significant and visible enforcement effort, the innovative aspects of the plan must detail components that support, expand, complement, and evaluate the existing enforcement effort.

States submitting a proposal designed to increase seat belt use in only a limited number of jurisdictions, one that lacks a strong enforcement or media effort, or one that does not include an evaluation component designed to measure both public awareness and changes in seat belt usage will be rejected in the evaluation process, unless the non-enforcement strategy provides a strong rationale for the proposed approach, preferably research based. This alternative should address how this proposed approach can be expected to increase seat belt use. NHTSA will carefully review this rationale in its evaluation of the proposal.

A State may demonstrate innovation in its enforcement efforts in a number of ways. If a State is not currently engaged in any form of highly visible enforcement of its occupant protection laws, implementation of such a program, in and of itself, would be innovative to that State. Finding new and more effective ways to make the public aware of the enforcement effort (e.g. a paid media effort) would demonstrate innovation. Additionally, innovation may be demonstrated by using new methods for gaining essential support (e.g. of the Governor or other key officials); by establishing statewide coordination groups to plan, implement and monitor the enforcement, media, outreach, or evaluation efforts; by implementing statewide enforcement training or orientation programs; or by proposing comprehensive ways to determine the impact of the program on diverse and low use groups. For States that already are engaged in substantial enforcement efforts, innovation can be demonstrated by expanding these efforts. This might include finding more effective ways to reach rural, urban, or diverse groups with strategies designed to address the problem of low seat belt use among those groups. States that have upgraded their laws recently to allow for primary enforcement may wish to initiate innovative ways to implement, enforce, and publicize their newly enacted law. For States with secondary enforcement laws, where a motorist must be stopped for another offense before being cited for failure to buckle up, innovation may be demonstrated by integrating the enforcement of the seat belt law with enforcement of other traffic safety laws (e.g., speed limits or right-of-way violations). Many opportunities for innovation exist, regardless of the State's current seat belt use rate or its ongoing efforts to increase it.

Specific examples of various innovative activities that can be used in support of a core component of enforcement include:

—Expanding participation in the semi-annual national seat belt enforcement mobilizations (i.e., Operation ABC conducted in May and November);

—Implementing efforts to train, motivate, and recognize law enforcement officers for participation in the program;

—Implementing a training or orientation program for prosecutors and judges to make them aware of the program and of the importance of consistently prosecuting and adjudicating occupant protection law violations;

—Mounting a highly visible program to implement newly enacted legislation that upgrades the State's seat belt or child passenger safety law;

—Initiating or expanding public information and education programs designed to complement newly upgraded legislation and/or enhanced enforcement efforts;

—Strengthening public information efforts by adding a paid advertising component to support earned (i.e., news) and public service media efforts;

—Adopting a more focused message that brings attention to the ongoing enforcement effort (e.g., adopting a “Click It or Ticket” campaign message);

—Establishing new partnerships and coalitions to support ongoing implementation of legislation or enforcement efforts (e.g., health care and medical groups, partnerships with diverse groups, businesses and employers);

—Initiating or expanding public awareness and outreach efforts to reach specific populations that have low seat belt use (e.g., part-time users; parents of children 0-15 years old; minority populations, including Native Americans; rural communities; males 15-24 years old; occupants of light trucks and sport utility vehicles, etc.);

—Initiating or expanding standardized child passenger safety training of police officers and/or child passenger safety checks and/or clinics across broad geographical areas (e.g., statewide, in major metropolitan areas, and/or in rural areas of the State);

—Initiating or expanding enforcement of other traffic laws (e.g., driving while intoxicated laws) as a means for implementing highly visible enforcement of seat belt use laws.

Self-Evaluations of Programs, Management and Resources

Meaningful and timely self-evaluations of each State's innovative programs, management, and associated resources are essential to improving the effectiveness of programs supported by this grant program. On an annual basis, grantees and NHTSA will generate and report objective documentation of the effectiveness (or lack of effectiveness) of the various program elements (particularly enforcement, paid media, enforcement-related messaging, etc.) supported under this grant program. Proposed program evaluation and reporting will be important factors in the evaluation of each State's application for funding (See Application Contents and Grant Criteria Section of this Federal Register Notice.) Program evaluation should constitute 10-20 percent of requested grant funds. An overall evaluation model must include efforts to measure changes in public awareness and use rates at various stages of the program. It also must include the use of pre/post statewide observational and telephone surveys and must include the use of periodic mini-observational surveys (which constitute sub-samples of the statewide survey sampling plan) and motorist surveys (e.g., Department of Motor Vehicles (DMV) surveys) during the various program phases. These components allow for an assessment of change at each phase of the program. Protocols and templates specific to the telephone and motorist surveys are available from NHTSA, upon request. It is strongly suggested that grantees consider using the complete model, with each of the components described above, in the evaluation of their innovative programs. Other evaluation approaches will be considered, but they must be described and justified.

NHTSA Involvement

In support of the activities undertaken by this grant program, NHTSA will:

1. Provide a Regional Office Point of Contact (POC) to coordinate activities between the Grantee and NHTSA during grant performance, and to serve as a liaison between NHTSA Headquarters, NHTSA Regional offices and the grantee.

2. Provide information and technical assistance from government sources within available resources and as determined appropriate by the POC.

3. Provide suggestions, protocols, and templates for evaluation components.

Availability of Funds and Period of Support

The efforts solicited in this announcement will be supported through the award of grants to a number of States, on the basis of the Grant Criteria identified below. The number of grants awarded will depend upon the number of applications that meet the requirements of this notice. The amount of the awards available in fiscal year 2002, will be based upon the formula described below. However, the minimum amount of an individual grant award to a State will be no less than $400,000, subject to availability of funds. The $400,000 minimum is derived from experience gained over the first two years of this innovative grant program, and reflects NHTSA's best judgment of the resources needed to implement effective statewide seat belt campaigns.

In fiscal year 2001, forty-three Innovative grants were awarded and grants ranged from $204,000 to $2.9 million. At this time, neither the exact amount of funds available nor the number and proposed costs of qualifying State applications can be determined. There is no assurance that the number of grant awards in FY 2002 will be the same or similar to the number of awards in FY 2000 or FY 2001, nor is there any assurance that those States that received awards in FY 2000 and FY 2001 will receive awards in FY 2002. There is no cost-sharing requirement under this program. The period of support for a grant under this program will be a total of 15 months, with 12 months of plan implementation, and three months for evaluation and preparation of the annual report.

This year's grant proposals will be reviewed based solely on whether or not the State's proposal complies with all of the required Grant Criteria specified in this Federal Register Notice. Only applicants who comply with all of the required elements, will be considered for award. Once it is determined by the evaluation committee that an applicant has met all of the criteria and the State has satisfied any additional clarification questions about the proposal, a State will qualify for an award. Since this year's awards will be determined on a formula basis, a State must prepare and submit a budget, in support of the proposed plan. The dollar amount of these awards will be based on the same formula that applies to the annual award for Section 402 funds (i.e., 75% based on population and 25% on roadway miles), subject to any adjustment needed to ensure compliance with the requirement to award at least $400,000 to every qualifying State. Appendix B shows the approximate amount that is expected to be awarded to each State, assuming (1) current estimates of available funds for FY 2002 and (2) all fifty-two eligible jurisdictions apply and qualify for an award. NHTSA estimates that the award of Section 157 Innovative Grants for fiscal year 2002 will occur during January 2002.

Allowable Uses of Federal Funds

Funds provided to a State under this grant program shall be used to carry out the activities described in the State's plan for which the grant is awarded. In addition, allowable uses of Federal funds shall be governed by the relevant allowable cost section and cost principles referenced in 49 CFR part 18—Department of Transportation Uniform Administrative Requirements for Grants and Cooperative Agreements to State and Local Governments.

Eligibility Requirements

Only the 50 States, the District of Columbia, and Puerto Rico, through their Governors' Representatives for Highway Safety, will be considered eligible to receive funding under this grant program.

Application Procedures

Each applicant must submit one original and two copies of the application package to: NHTSA, Office of Traffic Injury Control Programs, Occupant Protection Division (NTS-12), ATTN: Janice Hartwill-Miller, 400 Seventh Street, SW., Room 5118, Washington, DC 20590. An additional three copies will facilitate the review process, but are not required.

Applications must be typed on one side of the page only and adhere to the requirements of the Application Contents and Grant Criteria Section below. Only application packages submitted by a State's Governor's Representative for Highway Safety and received on or before June 29, 2001, will be considered.

Application Contents and Grant Criteria

To be eligible for a grant under the section 157 (b) statute, a State must include a description and/or documentation that all of the following elements are included, and will be implemented, as part of the State's section 157 (b) grant program. This year, each State's application must include the following information and a budget based on State estimates for award as specified in Appendix B, regardless of previous awards.

1. Introduction—

A brief general description of the State's population geographic distribution, any unique population characteristics, a short summary of the status of the seat belt use law in the State, and the pattern of estimated seat belt use rates for the State.

2. Certifications—

A signed statement by the State that: (i) It will use the funds awarded under this grant program exclusively to implement an innovative program in accordance with the requirements of Section 157(b) of Pub Law 105-178 (TEA-21); (ii) It will administer the funds in accordance with 49 CFR part 18 and OMB Circular A-87; (iii) It will provide to the NHTSA Regional Administrator no later than 15 months after the grant award a report of activities carried out with grant funds and accomplishments to date; and (iv) The State will comply with all applicable laws and regulations, financial and programmatic requirements.

3. Program Elements

(a) Seat Belt Use Goals—During the 12 month period (to be covered by these grant funds), set a goal to increase seat belt use by: (1) At least 8-10 percentage points, if the seat belt use rate is currently less than 75%; or (2) at least 3-5 percentage points, or higher if the seat belt use rate is currently between 75% and 85%; or (3) at least 1-3 percentage points, if the seat belt use rate is currently 85% or higher.

(b) Law Enforcement Participation—Obtain a commitment from the State Patrol/Police (if any) and the local and/or county law enforcement agencies that serve at least 75% of the State's population to participate actively in highly visible seat belt enforcement efforts consisting of checkpoints, saturation patrols or other enforcement tactics.

(c) Strategies to Increase Seat Belt Use—(Minimum of one):

(1) Conduct no fewer than 2-four week high-visibility seat belt enforcement campaigns, which include at least 7 days of aggressive enforcement during each campaign. These campaigns should complement and support the BUA/Operation ABC National Mobilizations (May and November) to the maximum extent possible;

(2) Conduct continuous high-visibility seat belt enforcement year round (i.e. 7 days week/24 hours per day model); or

(3) Implement a non-enforcement program that has the potential to reach the safety belt use goals as stated above in Program Element 3a. If a State selects this option, it must provide a strong rationale for the proposed approach, preferably, research based rationale (e.g., a summary of evidence of effectiveness in the related areas) regarding the potential for the overall program to increase the State's seat belt use rate.

(d) Personnel—A full-time program coordinator to manage the planning, implementation, and evaluation of enforcement, media, outreach, training and diversity efforts and if a law enforcement strategy is proposed, one or more law enforcement liaison(s) on staff or under contract to coordinate the seat belt enforcement (or other proposed) efforts and data collection.

(e) Public Information and Education Strategy—A statewide public information and education (PI&E) strategy for focusing public attention on the enforcement (or other proposed) effort. A combination of paid, public service and earned media may be considered as meeting this requirement, for the overall PI&E strategy.

4. Evaluation Elements

A technically competent evaluator must be on staff or under contract to manage and coordinate the following required activities:

(a) Observational Surveys—a minimum of three statewide observational surveys conducted throughout the year (e.g., before the first mobilization, at mid-year, and following the last mobilization) to assess statewide changes in observed seat belt usage;

(b) Telephone Surveys—a minimum of three statewide telephone surveys conducted throughout the year (e.g., before the first mobilization, at mid-year, and following the last mobilization) to assess statewide changes in public awareness and acceptance of program activities;

(c) Intermediate Measures—Intermediate measures of observed usage and motorist awareness of the program must also be obtained or an alternative means for assessing program impact at various phases must be used. These measures must consist of conducting sub-samples of the State's observational survey and conducting motorist awareness and opinion surveys (e.g. surveys of license applicants, Appendix C) during the various phases of the program (e.g., before and after the paid media begins if paid media is being used and during the enforcement effort.) The results of the sub-sample observational surveys conducted during the program should be combined with the observations for these same sites in the pre/post statewide surveys to obtain a continuous index of changes in usage rates beginning before the program is implemented and continuing through its completion. The motorist awareness and opinion surveys, usually conducted in the same general locations (e.g. counties) as the sub-sample observational surveys, should be used to provide continuous information regarding public awareness and perceptions.

(d) Media Analysis—Documentation regarding the characteristics of the media component of the program including quantitative and qualitative information regarding the mix of paid, earned, and public service media employed, the message used, media markets and groups targeted, exposure levels, etc.; and

(e) Enforcement Analysis—Documentation regarding the characteristics of the enforcement component of the program, including quantitative and qualitative information regarding the mix of enforcement approaches employed (e.g., checkpoints, saturation patrols), the number of waves and/or enforcement events, the number and amount of mini-grants awarded, agency recognition efforts, the number of agencies actively participating; number of hours of enforcement involved; the number of contacts made; warnings and citations issued for seat belt and child passenger safety violations for each of the mobilization periods; pertinent training received by law enforcement personnel to assist in enforcing the occupant protection laws; and PI&E activities conducted by law enforcement.

(f) Other Components (Not Required)—Other innovative and/or key components of your overall program, most notably innovative outreach efforts to reach special lower-use groups.

5. Reporting Requirements and Deliverables

(a) Quarterly Reports—The quarterly reports should include a summary of enforcement and other activities and accomplishments for the preceding period, significant problems encountered or anticipated, a brief itemization of expenditures made during this 6 month time period, and proposed activities for the upcoming reporting period. Any decisions and actions required in the upcoming program period should be included in the report.

(b) Draft Final Report—A Draft Final Report that includes a summary of the impact of program efforts in the preceding period as well as an assessment of the year-long program. It should include a complete description of the innovative projects conducted, including partners, overall program implementation, evaluation methodology and findings from the program evaluation. In terms of information transfer, it is important to know what worked and what did not work, under what circumstances, and what can be done to avoid potential problems in future projects. The grantee shall submit the Draft Final Report to the Regional POC 60 days prior to the end of the performance period. The Regional POC will review the draft report and provide comments to the grantee within 30 days of receipt of the document.

(c) Final Report—A Final Report to reflect the Regional POC's comments. The final report shall be delivered to the Regional POC 15 days before the end of the performance period. The grantee shall supply the Regional POC:

—A camera ready version of the document as printed.

—A copy, on appropriate media (diskette, Syquest disk, etc.), of the document in the original program format that was used for the printing process. Note: Some documents require several different original program languages (e.g., PageMaker for the general layout and design, Power point for charts, and yet another format for photographs, etc.). Each of these component parts should be available on disk, properly labeled with the program format and the file names. For example, Power point files should be clearly identified by both a descriptive name and file name (e.g., 1994 Fatalities—chart1.ppt).

—A complete version of the assembled document in portable document format (PDF) for placement of the report on the world wide web (WWW). This will be a file usually created with the Adobe Exchange program of the complete assembled document in the PDF format that will actually be placed on the WWW. The document would be completely assembled with all colors, charts, side bars, photographs, and graphics. This can be delivered to NHTSA on a standard 1.44 diskette (for small documents) or on any appropriate archival media (for large documents) such as a CD ROM, TR-1 Mini cartridge, Syquest disk, etc.

—Four additional hard copies of the final document.

Application Review Procedures

All applications will be reviewed by an Evaluation Committee to ensure that the application contains all of the information required by the Application Contents and Grant Criteria section of the Federal Register notice. This evaluation process may include submission of technical or program questions from the evaluation committee to the applicants, to determine eligibility. This process could extend over the course of several months, and applicants may expect correspondence of this nature throughout this time period. Once it has been determined which applicants have met the grant criteria, NHTSA will determine the final award amounts based on the amount of remaining funds from the general incentive portion of the Section 157 Grant program and the formula as described under the Availability of Funds and Period of Support Section. It is anticipated that awards will be made in January 2002.

Rose A. McMurray,
Associate Administrator for Traffic Safety Programs.

Appendix A

Strategies That Have Proven Effective in Increasing Seat Belt Use

In previous years, the Federal Register Notice for the Section 157 Innovative Grants provided a history of programs that have been documented to increase seat belt usage in the United States and Canada over the past two decades (for copies of those Federal Register notices contact person listed below). In those summaries of the seat belt history, the agency explained that nearly every example of significant increases in statewide usage rates since 1984 resulted from: (a) Enactment and implementation of a State seat belt usage law; (b) a legislative upgrade from a secondary to a primary (i.e., standard) enforcement law; or (c) a highly visible effort to enforce such laws.

The intent of the section 157 innovative grant legislation was to provide support for innovative programs that would be effective in increasing seat belt usage rates in the States. Since all States but one already have enacted seat belt use laws, and since the intent of this legislation was not to support lobbying efforts to obtain primary enforcement laws, the focus of this grant program has been on innovative and effective ways to develop, implement, support, and evaluate highly visible enforcement programs.

Again, aside from the implementation of seat belt use laws, these programs are the only efforts that have consistently been shown to be effective in increasing seat belt usage rates statewide (e.g., as in the national 70% by ’92 program and in specific statewide efforts undertaken in North Carolina, Georgia, Maryland, New York, Michigan, and several other States). These documented successes generally have involved Special Traffic Enforcement Programs (or STEPs), in which waves of enforcement and media are carefully scheduled to gain maximum public awareness. The potential effectiveness of these STEP programs recently has been enhanced as a result of the ability of States to use paid media, in addition to news stories and public service announcements, to increase public awareness. Their potential for success has also been increased by the national enforcement mobilizations (i.e. Operation ABC) conducted twice annually by the private-sector funded Air Bag & Seat Belt Safety Campaign (AB&SBSC), in cooperation with NHTSA. These mobilizations involve extensive efforts to contact and obtain the participation of State and local police agencies in all of the States and to initiate focused media efforts in major markets to make the public aware of the mobilizations. This innovative grant program greatly increases the potential effectiveness of the national enforcement mobilizations and the overall Buckle Up America program, and vice versa.

Since 1999, there have been several notable successes in which large States, such as Michigan and New York, have significantly increased seat belt usage. In Michigan, the increases resulted from a combination of enacting a primary seat belt usage law and implementing a highly visible program to enforce that law. In New York, which already had a primary seat belt law, significant increases in seat belt usage resulted from a highly visible statewide enforcement program, funded in part by the AB&SBSC and coordinated by the New York State Police. Maryland enacted a primary seat belt law and following a 3 month Chiefs' Challenge enforcement program, experienced a major increase in seat belt use. Oklahoma enacted a primary seat belt law and experienced a modest increase in seat belt usage. Later, a paid media program resulted in an additional increase. Florida, which has introduced but failed to enact primary seat belt legislation, has enhanced its statewide seat belt enforcement program and its use of law enforcement liaisons (LELs). As a result, Florida recently experienced a 5 percentage point increase in usage statewide. These examples represent some of the most significant recent increases in usage in the States and they represent a mixture of private sector, Section 402, and Section 157 funded efforts.

One of the clearest examples of a fully-implemented, innovative and effective statewide program is the South Carolina “Click It or Ticket” program, implemented in November 2000. The term “fully implemented” refers to the fact that the combination of enforcement and media efforts was sufficient to make 75-80 percent of the public aware of the program. The South Carolina program included several innovative and effective components, including statewide management of more than 3,000 enforcement events (i.e., checkpoints) over a two-week period, use of an explicit enforcement message (i.e., Click It or Ticket) delivered by means of a combination of earned and paid media, full coordination with the Operation ABC mobilization periods, a diversity outreach program that reached African Americans via churches and schools to make them aware of the enforcement effort, and a comprehensive evaluation program, which included measurement of both the public awareness of the program and changes in observed seat belt usage at each phase of the program (e.g. during the kickoff and news media phase, the paid media phase), and the enforcement phase, as well as before and after the program was implemented. As a result of this effort, South Carolina was able to document a 9 percentage point increase in seat belt usage statewide. Further, it was able to show that the paid media effort contributed significantly to public awareness and changes in seat belt usage. The State was able to document the extent to which groups with traditionally lower seat belt usage rates (e.g., male, rural, and African American motorists) were impacted.

Currently, more than a dozen States are using Section 157 Innovative grant funds, each in slightly different ways, to fully implement and evaluate similar STEP programs during the May 2001 mobilization period. These States are establishing statewide coordinating committees for enforcement, media, outreach, and evaluation efforts; making selective use of paid media efforts; using unambiguous enforcement messages; finding innovative ways to reach high risk groups such as young males and occupants of light trucks to make them aware of the planned enforcement activity; and implementing comprehensive evaluation efforts, similar to those used in the South Carolina program, to measure impact at each phase of the program. This evaluation model consists of statewide observational and telephone surveys conducted before and after the program, as well as mini-observational surveys and motorist surveys during each phase of the program. NHTSA will provide, upon request, protocols and templates for both the telephone surveys and the motorist surveys, as well as descriptions of how these surveys are being used in conjunction with the State's approved observational surveys to evaluate Section 157 program efforts. You may contact Janice Hartwill-Miller, Office of Traffic Injury Control Programs, Occupant Protection Division (NTS-12), NHTSA, 400 7th Street, S.W., Room 5118, Washington, DC 20590, by e-mail at jhartwill-miller@nhtsa.dot.gov, or by phone at (202) 366-2684, for this information.

The dramatic recent successes in the States add further credibility to NHTSA's position that highly visible enforcement is an important foundation upon which any effective program funded under Section 157 should be based. In addition, the recent examples of States focusing on fully-implemented enforcement and public information efforts, designed to reach 75-80 percent of the populace and selectively using paid media to make the public aware of the enforcement activity are very encouraging. Also encouraging is the recent focus in the States on developing a comprehensive evaluation effort to measure changes in both public awareness and seat belt use at various stages of the program.

Appendix B

FY2002 State Estimates for Section 157 Innovative Awards
State | FY2002 estimates
Alabama | $810,000
Alaska | 400,000
Arizona | 650,000
Arkansas | 595,000
California | 4,480,000
Colorado | 685,000
Connecticut | 500,000
Delaware | 400,000
District of Columbia | 400,000
Florida | 2,070,000
Georgia | 1,195,000
Hawaii | 400,000
Idaho | 400,000
Illinois | 1,930,000
Indiana | 1,015,000
Iowa | 695,000
Kansas | 715,000
Kentucky | 710,000
Louisiana | 740,000
Maine | 400,000
Maryland | 730,000
Massachusetts | 910,000
Michigan | 1,600,000
Minnesota | 965,000
Mississippi | 555,000
Missouri | 1,040,000
Montana | 400,000
Nebraska | 480,000
Nevada | 400,000
New Hampshire | 400,000
New Jersey | 1,140,000
New Mexico | 400,000
New York | 2,740,000
North Carolina | 1,175,000
North Dakota | 400,000
Ohio | 1,790,000
Oklahoma | 745,000
Oregon | 575,000
Pennsylvania | 1,940,000
Rhode Island | 400,000
South Carolina | 655,000
South Dakota | 400,000
Tennessee | 905,000
Texas | 3,140,000
Utah | 400,000
Vermont | 400,000
Virginia | 1,035,000
Washington | 885,000
West Virginia | 400,000
Wisconsin | 980,000
Wyoming | 400,000
Puerto Rico | 515,000

Appendix C

The Division of Motor Vehicles is assisting in a study about seat belts in (insert State name). Your answers to the following questions are voluntary and anonymous. Please complete the survey and then put it in the drop box.

1. Your sex: □ Male □ Female

2. Your age: □ Under 21 □ 21-25 □ 26-39 □ 40-49 □ 50-59 ­□ 60 Plus

3. Your race: □ White □ Black ­□ Asian □ Native American ­□ Other

4. Are you of Spanish/Hispanic origin? ­□ Yes □ No

5. Your Zip Code: ____

6. About how many miles did you drive last year?

□ Less than 5,000 □ 5,000 to 10,000 □ 10,001 to 15,000 ­□ More than 15,000

7. What type of vehicle do you drive most often?

□ Passenger car □ Pickup truck □ Sport utility vehicle □ Mini-van ­□ Full-van □ Other

8. How often do you use seat belts when you drive or ride in a car, van, sport utility vehicle or pick up?

□ Always □ Nearly always ­□ Sometimes □ Seldom □ Never

9. What do you think the chances are of getting a ticket if you don't wear your seat belt?

□ Always □ Nearly Always ­□ Sometimes □ Seldom □ Never

10. Do you think the Highway Patrol enforce the seat belt law:

□ Very strictly □ Somewhat strictly □ Not very strictly ­□ Rarely □ Not at all

11. Do you think local police enforce the seat belt law:

□ Very strictly □ Somewhat strictly □ Not very strictly ­□ Rarely □ Not at all

12. Have you ever received a ticket for not wearing your seat belt?

□ Yes □ No

13. In the past month, have you seen or heard about a checkpoint where police were looking at seat belt use?

□ Yes □ No

14. In the past month, have you gone through a checkpoint where police were looking at seat belt use?

□ Yes □ No

15. Have you recently read, seen or heard anything about seat belts in (insert State name)?

□ Yes

If yes, where did you see or hear about it? (Check all that apply):

□ Newspaper □ Radio □ TV □ Poster □ Brochure □ Police checkpoint □ Other

If yes, what did it say?______

□ No

16. Do you know the name of any seat belt enforcement program(s) in (insert State name)? (check all that apply):

□ No Excuses, Buckle Up ­□ Buckle Up (insert State Name) ­□ Click It or Ticket □ Operation 35, Buckle Up Stay Alive

[FR Doc. 01-10667 Filed 4-27-01; 8:45 am]

BILLING CODE 4910-59-P